DEPARTMENT OF EDUCATION

Applications for New Awards; Expanding Opportunity Through Quality Charter Schools Program (CSP)—Grants to Charter School Developers for the Opening of New Charter Schools and for the Replication and Expansion of High-Quality Charter Schools (Developer Grants)

AGENCY: Office of Elementary and Secondary Education, Department of Education.

ACTION: Notice.

SUMMARY: The Department of Education (Department) is issuing a notice inviting applications for fiscal year (FY) 2025 for two types of grants: (1) CSP Developer Grants for the opening of new charter schools, and (2) CSP Developer Grants for the replication and expansion of high-quality charter schools.

DATES:

Applications Available: May 15, 2025.

Application Deadline: June 30, 2025.

Deadline for Intergovernmental Review: September 8, 2025.

Pre-Application Webinar Information: The Department will hold a pre-application meeting via webinar to provide technical assistance to prospective applicants. Detailed information regarding this webinar will be provided at https://www.ed.gov/grants-and-programs/grants-birth-grade-12/charter-school-programs/charter-schools-program-csp-grants-to-charter-school-developers-for-the-opening-of-new-charter-schools-and-for-the-replication-and-expansion-of-high-quality-charter-schools on the FY 2025 CSP Developer Grant Competition tab.

For further information about the pre-application meeting, please reach out to the program contact person listed under FOR FURTHER INFORMATION CONTACT.

ADDRESSES: For the addresses for obtaining and submitting an application, please refer to the Application Submission Instructions section.

FOR FURTHER INFORMATION CONTACT: Stephanie S. Jones, U.S. Department of Education, 400 Maryland Avenue SW, Washington, DC 20202-5970. Telephone: (202) 453-7835. Email: DeveloperCompetition@ed.gov.

If you are deaf, hard of hearing, or have a speech disability and wish to access telecommunications relay services, please dial 7-1-1.

SUPPLEMENTARY INFORMATION:

Full Text of Announcement

I. Funding Opportunity Description

1. Purpose of Program: Through CSP Developer Grants, the Department provides grants on a competitive basis to charter school ¹ developers to enable them to open new charter schools or to replicate or expand high-quality charter schools in States that do not currently have a CSP State Entity grant under section 4303 of the Elementary and Secondary Education Act of 1965, as amended (ESEA).

¹ Defined terms are italicized the first time they are used.

Charter schools that receive financial assistance through CSP Developer Grants provide elementary or secondary education, or both, and may also serve students in early childhood education programs or postsecondary students, consistent with the terms of their charter.

Assistance Listing Numbers: 84.282B (for the opening of new charter schools) and 84.282E (for the replication and expansion of high-quality charter schools).

OMB Control Number: 1810-0767.

Note: The table below highlights key aspects of the funding opportunity in this NIA. Applicants are encouraged to thoroughly review this notice for a detailed listing and description of all competition requirements before submitting an application.

Table 1—Funding Opportunity at-a-Glance
Topic | Notes
Application Deadline | All interested applicants must submit applications in Grants.gov no later than 11:59 p.m. Eastern time on June 30, 2025. Complete instructions on how to register and apply can be found at Grants.gov.
Eligibility: Additional information on eligibility, including a list of eligible States under this competition, is available in the Eligible Applicants for Grants section below | Developers are eligible to apply if they have— (a) Applied to an authorized public chartering authority to operate a charter school; and (b) Provided adequate and timely notice to that authority. “Developer” means an individual or group of individuals (including a public or private nonprofit organization), which may include teachers, administrators and other school staff, parents, or other members of the local community in which a charter school project will be carried out.
| Additionally, the charter school must be located in a State with a State statute specifically authorizing the establishment of charter schools and in which a State entity currently does not have a CSP State Entity grant. A list of states from which the Department will not accept applications is provided later in this notice.
Funding | Estimated Available Funds: $5,000,000.
| Estimated Range of Awards: $250,000 to $400,000 per year.
| Estimated Average Size of Awards: $350,000 per year.
| Estimated Number of Awards: 6-10.
| The Department is not bound by any estimates in this notice.
Invitational Priority (IP): The full text of the IP is in the Priorities section below | This notice includes one IP. We are particularly interested in applications that meet the IP but do not give them competitive or absolute preference over others. Responding to the IP is optional.
| IP: Encouraging Innovative Charter School Models.
Application Requirements | Applicants are required to address all application requirements in this notice.
Requests for Waiver | Applicants may include in their applications a request and justification for a waiver of any Federal statutory or regulatory requirements over which the Secretary exercises authority, except for requirements in the definition of “charter school” under the CSP.
Selection Criteria: The full text of the selection criteria is in the Selection Criteria section below | We evaluate applications using selection criteria. The maximum score for addressing all selection criteria is 100 points. Selection Criteria for ALN 84.282B: (a)(1) Quality of the Project Design and Adequacy of Resources (up to 40 points). (a)(2) Quality of the Charter School's Management Plan and Project Personnel (up to 40 points). (a)(3) Quality of the Continuation Plan (up to 20 points).
| Selection Criteria for ALN 84.282E: (b)(1) Quality of Eligible Applicant (up to 30 points). (b)(2) Quality of the Project Design and Adequacy of Resources (up to 30 points). (b)(3) Quality of the Charter School's Management Plan and Project Personnel (up to 20 points). (b)(4) Quality of the Continuation Plan (up to 20 points).

2. Award Information

Type of Award: Discretionary grants.

Estimated Available Funds: $5,000,000.

Contingent upon the availability of funds and the quality of applications, we may make additional awards in subsequent years from the list of unfunded applications from this competition.

Estimated Range of Awards: $250,000 to $400,000 per year.

Estimated Average Size of Awards: $350,000 per year.

Maximum Award: See section II.3 of this notice, Reasonable and Necessary Costs, for information regarding the maximum amount of funds that CMOs may be awarded per charter school.

Estimated Number of Awards: 6-10.

Note: The Department is not bound by any estimates in this notice. The estimated range and average size of awards are based on a single 12-month budget period. We may use FY 2025 funds to support multiple 12-month budget periods for one or more grantees.

Project Period: Up to 60 months.

A grant awarded by the Secretary under this competition may be for a period of not more than 5 years, of which the grantee may use not more than 18 months for planning and program design. (Section 4303(d)(1)(B) of the ESEA)

3. Eligible Applicants for Grants: Developers.

Under section 4310(5) of the ESEA, “developer” means an individual or group of individuals (including a public or private nonprofit organization), which may include teachers, administrators and other school staff, parents, or other members of the local community in which a charter school project will be carried out. Eligible applicants are developers that have—

(a) Applied to an authorized public chartering authority to operate a charter school; and

(b) Provided adequate and timely notice to that authority. (Section 4310(6) of the ESEA).

Additionally, the charter school must be located in a State with a State statute specifically authorizing the establishment of charter schools (as defined in section 4310(2) of the ESEA) and in which a State entity currently does not have a CSP State Entity grant (Assistance Listing Number (ALN) 84.282A) under section 4303 of the ESEA.² (Section 4305(a)(2) of the ESEA).

² States in which a State entity currently has an approved CSP State Entity grant application under section 4303 of the ESEA that is actively running subgrant competitions are Arizona, California, Colorado, Connecticut, District of Columbia, Florida, Georgia, Idaho, Illinois, Indiana, Louisiana, Maryland, Massachusetts, Minnesota, Mississippi, Missouri, New Jersey, New Mexico, New York, Oklahoma, Pennsylvania, Rhode Island, South Carolina, Tennessee, Texas, Utah, West Virginia, and Wisconsin. We will not consider applications from applicants in these States under either Assistance Listing Number 84.282B or 84.282E.

As a general matter, the Secretary considers charter schools that have been in operation for more than five years to be past the initial implementation phase and, therefore, ineligible to receive CSP funds under ALN 84.282B to support the opening of a new charter school or under ALN 84.282E for the replication of a high-quality charter school; however, such schools may receive CSP funds under ALN 84.282E for the expansion of a high-quality charter school.

Note: If you are a nonprofit organization, under 34 CFR 75.51, you may demonstrate your nonprofit status by providing: (1) proof that the Internal Revenue Service currently recognizes the applicant as an organization to which contributions are tax deductible under section 501(c)(3) of the Internal Revenue Code; (2) a statement from a State taxing body or the State attorney general certifying that the organization is a nonprofit organization operating within the State and that no part of its net earnings may lawfully benefit any private shareholder or individual; (3) a certified copy of the applicant's certificate of incorporation or similar document if it clearly establishes the nonprofit status of the applicant; or (4) any item described above if that item applies to a State or national parent organization, together with a statement by the State or parent organization that the applicant is a local nonprofit affiliate.

4. Priorities: This notice includes one invitational priority. For FY 2025, and any subsequent year in which we make awards from the list of unfunded applications from this competition, this priority is an invitational priority. Under 34 CFR 75.105(c)(1), we do not give an application that meets this invitational priority a competitive or absolute preference over other applications.

Invitational Priority—Encouraging Innovative Charter School Models.

Background: Charter schools are a key pillar in providing access to education choice, empowering parents and families to seek the best learning environment for their children and fostering innovation in education models that address the unique needs of students across the country. Through this competition, the Department is interested in supporting further innovation in charter schools, and for this reason, we have included an Invitational Priority to encourage the growth of high-quality charter school models that employ innovative practices to meet the needs of students and provide parents and families with high-quality options for their children.

Priority: The Secretary is particularly interested in applications that propose to open a charter school or replicate or expand a high-quality charter school model that focuses on one or more of the following: classical and civics education; science, technology, engineering, and mathematics (STEM) education, including computer science; career and technical education; or other innovative educational practices with evidence of success; or serving students with particularly unique needs, such as students with disabilities or receiving special education or related services, military-connected students, students living in rural areas, or Native American students.

5. Requirements: The application requirements in this notice are from section 4303(f) ³ of the ESEA and the notice of final priorities, requirements, definitions, and selection criteria for CSP Developer Grants published in the Federal Register on July 3, 2019 (84 FR 31726) (2019 NFP). The Department will not fund an application that does not meet each application requirement. Applicants must clearly identify the application requirement they are addressing in the project narrative.

³ Under section 4305(c) of the ESEA, CSP Developer Grants must have the same terms and conditions as grants awarded to State entities under section 4303. For clarity, with respect to requirements that derive from section 4303, the Department has, as applicable, omitted the term “State entity” or replaced it with “eligible applicant.” In addition, the Department has replaced “State entity's program” and “subgrant,” respectively, with “program” and “grant.”

Application Requirements:

Applications for funding under the CSP Developer program must contain the following information.

Grants to Charter School Developers for the Opening of New Charter Schools (ALN 84.282B) and for the Replication and Expansion of High-Quality Charter Schools (ALN 84.282E).

(a) Describe the eligible applicant's objectives in running a quality charter school program and how the objectives of the program will be carried out, including—

(1) How the eligible applicant will ensure that charter schools receiving funds under this program meet the educational needs of their students, including children with disabilities and English learners (Section 4303(f)(1)(A)(x) of the ESEA);

(2) A description of the roles and responsibilities of eligible applicants, partner organizations, and charter management organizations, including the administrative and contractual roles and responsibilities of such partners (Section 4303(f)(1)(C)(i)(I) of the ESEA);

(3) A description of the quality controls agreed to between the eligible applicant and the authorized public chartering agency involved, such as a contract or performance agreement, how a school's performance in the State's accountability system and impact on student achievement (which may include student academic growth) will be one of the most important factors for renewal or revocation of the school's charter, and how the authorized public chartering agency involved will reserve the right to revoke or not renew a school's charter based on financial, structural, or operational factors involving the management of the school (Section 4303(f)(1)(C)(i)(II) of the ESEA);

(4) A description of how the autonomy and flexibility granted to a charter school is consistent with the definition of a charter school in section 4310 of the ESEA (Section 4303(f)(1)(C)(i)(III) of the ESEA);

(5) A description of how the eligible applicant will solicit and consider input from parents and other members of the community on the implementation and operation of each charter school that will receive funds under the grant (Section 4303(f)(1)(C)(i)(IV) of the ESEA);

(6) A description of the eligible applicant's planned activities and expenditures of grant funds to support the activities described in section 4303(b)(1) of the ESEA, and how the eligible applicant will maintain financial sustainability after the end of the grant period (Section 4303(f)(1)(C)(i)(V) of the ESEA);

(7) A description of how the eligible applicant will support the use of effective parent, family, and community engagement strategies to operate each charter school that will receive funds under the grant (Section 4303(f)(1)(C)(i)(VI) of the ESEA); and

(8) A description of how the eligible applicant will ensure that each charter school receiving funds under this program has considered and planned for the transportation needs of the school's students (Section 4303(f)(1)(E) of the ESEA).

(b) Describe the educational program that the applicant will implement in the charter school receiving funding under this program, including—

(1) Information on how the program will enable all students to meet the challenging State academic standards;

(2) The grade levels or ages of students who will be served; and

(3) The instructional practices that will be used. (2019 NFP)

(c) Describe how the applicant will ensure that the charter school that will receive funds will recruit, enroll, and retain students, including educationally disadvantaged students, which include children with disabilities and English learners. (2019 NFP)

(d) Describe the lottery and enrollment procedures that the applicant will use for the charter school if more students apply for admission than can be accommodated and, if the applicant proposes to use a weighted lottery, how the weighted lottery complies with section 4303(c)(3)(A) of the ESEA. (2019 NFP)

(e) Provide a complete logic model (as defined in 34 CFR 77.1) for the grant project. The logic model must include the applicant's objectives for implementing a new charter school or replicating or expanding a high-quality charter school with funding under this competition. (2019 NFP)

(f) Provide a budget narrative, aligned with the activities, target grant project outputs, and outcomes described in the logic model, that outlines how grant funds will be expended to carry out planned activities. (2019 NFP)

(g) If the applicant proposes to open a new charter school (ALN 84.282B) or proposes to replicate or expand a high-quality charter school (ALN 84.282E) that provides a single-sex educational program, demonstrate that the proposed single-sex educational programs are in compliance with the title IX of the Education Amendments of 1972 (20 U.S.C. 1681, et seq.) (“Title IX”) and its implementing regulations, including 34 CFR 106.34. (2019 NFP)

(h) Provide the applicant's most recent available independently audited financial statements prepared in accordance with generally accepted accounting principles. (2019 NFP)

(i) Provide—

(1) A request and justification for waivers of any Federal statutory or regulatory provisions that the eligible entity believes are necessary for the successful operation of the charter school to be opened or to be replicated or expanded; and

(2) A description of any State or local rules, generally applicable to public schools, that will be waived or otherwise not apply to the school that will receive funds. (2019 NFP)

(j) Describe how each school that will receive funds meets the definition of charter school under section 4310(2) of the ESEA. (2019 NFP)

Grants for the Replication and Expansion of High-Quality Charter Schools (ALN 84.282E).

In addition to the preceding application requirements, applicants for grants under ALN 84.282E must—

(a) For each charter school currently operated or managed by the applicant, provide—

(1) Information that demonstrates that the school is treated as a separate school by its authorized public chartering agency and the State, including for purposes of accountability and reporting under title I, part A of the ESEA;

(2) Student assessment results for all students and for each subgroup of students described in section 1111(c)(2) of the ESEA;

(3) Attendance and student retention rates for the most recently completed school year and, if applicable, the most recent available four-year adjusted cohort graduation rates and extended year adjusted cohort graduation rates; and

(4) Information on any significant compliance and management issues encountered within the last three school years by the existing charter school being operated or managed by the eligible entity, including in the areas of student safety and finance. (2019 NFP)

Assurances:

All applicants for CSP Developer Grants must provide the following assurances. These assurances are from section 4303(f)(2) of the ESEA. The source of each assurance is provided in parentheses following each assurance.

Applicants for funds under this program must provide assurances that—

(a) Each charter school receiving funds through this program will have a high degree of autonomy over budget and operations, including autonomy over personnel decisions (Section 4303(f)(2)(A) of the ESEA);

(b) The eligible applicant will support charter schools in meeting the educational needs of their students, as described in section 4303(f)(1)(A)(x) of the ESEA (Section 4303(f)(2)(B) of the ESEA); and

(c) The eligible applicant will ensure that each charter school receiving funds under this program makes publicly available, consistent with the dissemination requirements of the annual State report card under section 1111(h) of the ESEA, including on the website of the school, information to help parents make informed decisions about the education options available to their children, including—

(i) Information on the educational program;

(ii) Student support services;

(iii) Parent contract requirements (as applicable), including any financial obligations or fees;

(iv) Enrollment criteria (as applicable); and

(v) Annual performance and enrollment data for each of the subgroups of students, as defined in section 1111(c)(2) of the ESEA, except that such disaggregation of performance and enrollment data shall not be required in a case in which the number of students in a group is insufficient to yield statistically reliable information or the results would reveal personally identifiable information about an individual student. (Section 4303(f)(2)(G) of the ESEA)

Waivers: The Secretary recognizes that developers may need additional flexibility in implementing CSP grants to achieve the purposes of the CSP. Under section 4303(d)(5) of the ESEA, the Secretary, in her discretion, may waive any statutory or regulatory requirement over which she exercises administrative authority, except the requirements related to the definition of “charter school” in section 4310(2), provided that the waiver is requested in an approved application and the Secretary determines that granting the waiver will promote the purposes of the CSP.

For example, a Developer applicant may request approval from the Department for a waiver of requirements in section 4303(h) of the ESEA regarding use of funds to use the funds for sustained costs (e.g., personnel costs for school leaders or instructional staff, software subscriptions, student assessments, etc.) throughout the life of the grant, provided that such costs are necessary to open new charter schools or replicate or expand high-quality charter schools and that the charter school can demonstrate that it will maintain financial sustainability after the end of the subgrant period.

5. Definitions: The following definitions are from sections 4310 (20 U.S.C. 7221i) and 8101 (20 U.S.C. 7801) of the ESEA, 34 CFR 77.1, and the 2019 NFP.

Ambitious means promoting continued, meaningful improvement for program participants or for other individuals or entities affected by the grant or representing a significant advancement in the field of education research, practices, or methodologies. When used to describe a performance target, whether a performance target is ambitious depends upon the context of the relevant performance measure and the baseline for that measure. (34 CFR 77.1)

Authorized public chartering agency means a State educational agency, local educational agency, or other public entity that has the authority pursuant to State law and approved by the Secretary to authorize or approve a charter school. (Section 4310(1) of the ESEA)

Baseline means the starting point from which performance is measured and targets are set. (34 CFR 77.1)

Charter management organization means a nonprofit organization that operates or manages a network of charter schools linked by centralized support, operations, and oversight. (Section 4310(3) of the ESEA)

Charter school means a public school that—

(1) In accordance with a specific State statute authorizing the granting of charters to schools, is exempt from significant State or local rules that inhibit the flexible operation and management of public schools, but not from any rules relating to the other requirements of this definition;

(2) Is created by a developer as a public school, or is adapted by a developer from an existing public school, and is operated under public supervision and direction;

(3) Operates in pursuit of a specific set of educational objectives determined by the school's developer and agreed to by the authorized public chartering agency;

(4) Provides a program of elementary or secondary education, or both;

(5) Is nonsectarian in its programs, admissions policies, employment practices, and all other operations, and is not affiliated with a sectarian school or religious institution;

(6) Does not charge tuition;

(7) Complies with the Age Discrimination Act of 1975, title VI of the Civil Rights Act of 1964, title IX of the Education Amendments of 1972, section 504 of the Rehabilitation Act of 1973, the Americans with Disabilities Act of 1990 (42 U.S.C. 12101 et seq.), section 444 of GEPA (20 U.S.C. 1232g) (commonly referred to as the “Family Educational Rights and Privacy Act of 1974”), and part B of the Individuals with Disabilities Education Act (IDEA);

(8) Is a school to which parents choose to send their children, and that—

(i) Admits students on the basis of a lottery, consistent with section 4303(c)(3)(A) of the ESEA, if more students apply for admission than can be accommodated; or

(ii) In the case of a school that has an affiliated charter school (such as a school that is part of the same network of schools), automatically enrolls students who are enrolled in the immediate prior grade level of the affiliated charter school and, for any additional student openings or student openings created through regular attrition in student enrollment in the affiliated charter school and the enrolling school, admits students on the basis of a lottery as described in clause (i);

(9) Agrees to comply with the same Federal and State audit requirements as do other elementary schools and secondary schools in the State, unless such State audit requirements are waived by the State;

(10) Meets all applicable Federal, State, and local health and safety requirements;

(11) Operates in accordance with State law;

(12) Has a written performance contract with the authorized public chartering agency in the State that includes a description of how student performance will be measured in charter schools pursuant to State assessments that are required of other schools and pursuant to any other assessments mutually agreeable to the authorized public chartering agency and the charter school; and

(13) May serve students in early childhood education programs or postsecondary students. (Section 4310(2) of the ESEA)

Child with a disability means—

(1) A child (i) with intellectual disabilities, hearing impairments (including deafness), speech or language impairments, visual impairments (including blindness), serious emotional disturbance (referred to as “emotional disturbance”), orthopedic impairments, autism, traumatic brain injury, other health impairments, specific learning disabilities, deaf-blindness, or multiple disabilities; and (ii) who, by reason thereof, needs special education and related services.

(2) For a child aged 3 through 9 (or any subset of that age range, including ages 3 through 5), may, at the discretion of the State and the LEA, include a child (i) experiencing developmental delays, as defined by the State and as measured by appropriate diagnostic instruments and procedures, in one or more of the following areas: physical development; cognitive development; communication development; social or emotional development; or adaptive development; and (ii) who, by reason thereof, needs special education and related services. (Section 8101(4) of the ESEA)

Developer means an individual or group of individuals (including a public or private nonprofit organization), which may include teachers, administrators and other school staff, parents, or other members of the local community in which a charter school project will be carried out. (Section 4310(5) of the ESEA)

Early childhood education program means—

(1) A Head Start program or an Early Head Start program carried out under the Head Start Act (42 U.S.C. 9831 et seq.), including a migrant or seasonal Head Start program, an Indian Head Start program, or a Head Start program or an Early Head Start program that also receives State funding;

(2) A State licensed or regulated child care program; or

(3) A program that—

(i) Serves children from birth through age 6 that addresses the children's cognitive (including language, early literacy, and early mathematics), social, emotional, and physical development; and

(ii) Is (A) a State prekindergarten program; (B) a program authorized under section 619 (20 U.S.C. 1419) or part C of the IDEA; or (C) a program operated by an LEA. (ESEA section 8101(16))

Educationally disadvantaged student means a student in one or more of the categories described in section 1115(c)(2) of the ESEA, which include children who are economically disadvantaged, students who are children with disabilities, migrant students, English learners, neglected or delinquent students, homeless students, and students who are in foster care. (2018 NFP)

English learner, when used with respect to an individual, means an individual—

(1) Who is aged 3 through 21;

(2) Who is enrolled or preparing to enroll in an elementary school or secondary school;

(3)(i) Who was not born in the United States or whose native language is a language other than English;

(ii)(A) Who is a Native American or Alaska Native, or a native resident of the outlying areas; and

(B) Who comes from an environment where a language other than English has had a significant impact on the individual's level of English language proficiency; or

(iii) Who is migratory, whose native language is a language other than English, and who comes from an environment where a language other than English is dominant; and

(4) Whose difficulties in speaking, reading, writing, or understanding the English language may be sufficient to deny the individual—

(i) The ability to meet the challenging State academic standards;

(ii) The ability to successfully achieve in classrooms where the language of instruction is English; or

(iii) The opportunity to participate fully in society. (Section 8101(20) of the ESEA)

Expand, when used with respect to a high-quality charter school, means to significantly increase enrollment or add one or more grades to the high-quality charter school. (Section 4310(7) of the ESEA)

High-quality charter school means a charter school that—

(1) Shows evidence of strong academic results, which may include strong student academic growth, as determined by a State;

(2) Has no significant issues in the areas of student safety, financial and operational management, or statutory or regulatory compliance;

(3) Has demonstrated success in significantly increasing student academic achievement, including graduation rates where applicable, for all students served by the charter school; and

(4) Has demonstrated success in increasing student academic achievement, including graduation rates where applicable, for each of the subgroups of students, as defined in section 1111(c)(2) of the ESEA, except that such demonstration is not required in a case in which the number of students in a group is insufficient to yield statistically reliable information or the results would reveal personally identifiable information about an individual student. (Section 4310(8) of the ESEA)

Logic model (also referred to as a theory of action) means a framework that identifies key project components of the proposed project (i.e., the active “ingredients” that are hypothesized to be critical to achieving the relevant outcomes) and describes the theoretical and operational relationships among the key project components and relevant outcomes. (34 CFR 77.1)

Parent includes a legal guardian or other person standing in loco parentis (such as a grandparent or stepparent with whom the child lives, or a person who is legally responsible for the child's welfare). (Section 8101(38) of the ESEA)

Performance measure means any quantitative indicator, statistic, or metric used to gauge program or project performance. (34 CFR 77.1)

Performance target means a level of performance that an applicant would seek to meet during the course of a project or as a result of a project. (34 CFR 77.1)

Project component means an activity, strategy, intervention, process, product, practice, or policy included in a project. Evidence may pertain to an individual project component or to a combination of project components (e.g., training teachers on instructional practices for English learners and follow-on coaching for these teachers). (34 CFR 77.1)

Public, as applied to an agency, organization, or institution, means that the agency, organization, or institution is under the administrative supervision or control of a government other than the Federal Government. (34 CFR 77.1)

Relevant outcome means the student outcome(s) or other outcome(s) the key project component is designed to improve, consistent with the specific goals of the program. (34 CFR 77.1)

Replicate, when used with respect to a high-quality charter school, means to open a new charter school, or a new campus of a high-quality charter school, based on the educational model of an existing high-quality charter school, under an existing charter or an additional charter, if permitted or required by State law. (Section 4310(9) of the ESEA)

7. Selection Criteria: The selection criteria for applicants submitting applications under ALNs 84.282B and 84.282E are listed in paragraphs (a) and (b) of this section, respectively. The selection criteria are from 34 CFR 75.210 and the 2019 NFP. The maximum possible total score an application can receive for addressing the selection criteria is 100 points. The maximum possible score for addressing each criterion is indicated in parentheses following the criterion.

(a) Selection Criteria for Grants for the Opening of New Charter Schools (ALN 84.282B).

(1) Quality of the Project Design and Adequacy of Resources (up to 40 points).

In determining the quality of the project design and the adequacy of resources for the proposed project, the Secretary considers the following factors:

(i) The quality of the logic model or other conceptual framework underlying the proposed project, including how inputs are related to outcomes (up to 20 points). (34 CFR 75.210)

(ii) The extent to which the budget is adequate to support the proposed project and the costs are reasonable in relation to the objectives, design, and potential significance of the proposed project (up to 20 points). (34 CFR 75.210)

(2) Quality of the Charter School's Management Plan and Project Personnel (up to 40 points).

In determining the quality of the management plan and project personnel for the proposed project, the Secretary considers the following factors:

(i) The feasibility of the management plan to achieve project objectives and goals on time and within budget, including clearly defined responsibilities, timelines, and milestones for accomplishing project tasks (up to 20 points). (34 CFR 75.210)

(ii) The extent to which the time commitments of the project director and principal investigator and other key project personnel are appropriate and adequate to meet the objectives of the proposed project (up to 20 points). (34 CFR 75.210)

(3) Quality of the Continuation Plan (up to 20 points).

In determining the quality of the continuation plan, the Secretary considers the extent to which the eligible applicant is prepared to continue to operate the charter school that would receive grant funds in a manner consistent with the eligible applicant's application once the grant funds under this program are no longer available. (2019 NFP)

(b) Selection Criteria for Grants for the Replication and Expansion of High-Quality Charter Schools (ALN 84.282E).

(1) Quality of the Eligible Applicant (up to 30 points).

In determining the quality of the eligible applicant, the Secretary considers the following factors:

(i) The extent to which the academic achievement results (including annual student performance on statewide assessments and annual student attendance and retention rates and where applicable and available, student academic growth, high school graduation rates, postsecondary enrollment and persistence rates, including in college or career training programs, employment rates, earnings and other academic outcomes) for educationally disadvantaged students served by the charter schools operated or managed by the applicant have exceeded the average academic achievement results for such students served by other public schools in the State (up to 20 points). (2019 NFP)

(ii) The extent to which the schools operated or managed by the applicant demonstrate strong results on measurable outcomes in non-academic areas such as, but not limited to, parent satisfaction, school climate, student mental health, civic engagement, and crime prevention and reduction (up to 10 points). (2019 NFP)

(2) Quality of the Project Design and Adequacy of Resources (up to 30 points).

In determining the quality of the project design and the adequacy of resources for the proposed project, the Secretary considers the following factors:

(i) The quality of the logic model or other conceptual framework underlying the proposed project, including how inputs are related to outcomes (up to 15 points). (34 CFR 75.210)

(ii) The extent to which the budget is adequate to support the proposed project and the costs are reasonable in relation to the objectives, design, and potential significance of the proposed project (up to 15 points). (34 CFR 75.210)

(3) Quality of the Charter School's Management Plan and Project Personnel (up to 20 points).

In determining the quality of the management plan and project personnel for the proposed project, the Secretary considers the following factors:

(i) The feasibility of the management plan to achieve project objectives and goals on time and within budget, including clearly defined responsibilities, timelines, and milestones for accomplishing project tasks (up to 10 points). (34 CFR 75.210)

(ii) The extent to which the time commitments of the project director and principal investigator and other key project personnel are appropriate and adequate to meet the objectives of the proposed project (up to 10 points). (34 CFR 75.210)

(4) Quality of the Continuation Plan (up to 20 points).

In determining the quality of the continuation plan, the Secretary considers the extent to which the eligible applicant is prepared to continue to operate the charter school that would receive grant funds in a manner consistent with the eligible applicant's application once the grant funds under this program are no longer available. (2019 NFP)

In addressing the selection criteria and application requirements in this notice for either ALN 84.282B or 84.282E, an applicant must clearly identify in its application which criterion or requirement it is addressing. In addition, an applicant must address corresponding application requirements when addressing the specific selection criteria listed in the table below.

Table 2—Alignment of the Selection Criteria and Application Requirements
Selection criterion for ALN 84.282B | Application requirement(s)
Quality of the Project Design and Adequacy of Resources (1)(i) | (e).
Quality of the Project Design and Adequacy of Resources (1)(ii) | First element of (a)(6), and (f).
Quality of the Charter School's Management Plan and Project Personnel (2)(ii) | (a)(2).
Quality of the Continuation Plan (3) | Second component of (a)(6).
Selection Criterion for ALN 84.282E | Application Requirement(s)
Quality of the Eligible Applicant (1)(i) | For 84.282E only: (a)(1), (a)(2), and (a)(3).
Quality of the Project Design and Adequacy of Resources (2)(i) | (e).
Quality of the Project Design and Adequacy of Resources (2)(ii) | First element of (a)(6), and (f).
Quality of the Charter School's Management Plan and Project Personnel (3)(ii) | (a)(2).
Quality of the Continuation Plan (4) | Second component of (a)(6).

All other application requirements not listed in the table above must be addressed elsewhere in the Project Narrative. This includes all assurances and the following requirements: for ALNs 84.282B and 84.282E, (a)(1), (a)(3), (a)(4), (a)(5), (a)(7), (a)(8), (b)(1), (b)(2), (b)(3), (c), (d), (g), (h), (i)(1), (i)(2), and (j); additionally, for ALN 84.282E, (a)(4).

8. Performance Measures: The Department has developed the following performance measures for the purposes of the Department reporting under 34 CFR 75.110:

(a) Program Performance Measures. (1) The performance measures for this program are: (i) The number of charter schools in operation around the Nation, and (ii) the percentage of fourth- and eighth-grade charter school students who are achieving at or above the proficient level on State assessments in mathematics and reading/language arts. Additionally, the Secretary has established the following measure to examine the efficiency of the CSP: The Federal cost per student in implementing a successful school (defined as a school in operation for three or more consecutive years).

(2) In accordance with 34 CFR 75.110(b), applications must describe:

(i) The data collection and reporting methods the applicant would use and why those methods are likely to yield reliable, valid, and meaningful performance data.

(ii) The applicant's capacity to collect and report the quality of the performance data, as evidenced by quality data collection, analysis, and reporting in other projects or research.

(b) Project-Specific Performance Measures. Applicants must propose project-specific performance measures and performance targets consistent with the objectives of the proposed project. In accordance with 34 CFR 75.110(c), applications must include the following:

(1) Project-specific performance measures. How each proposed project-specific performance measure would: accurately measure the performance of the project; be consistent with the program performance measures established under paragraph (a) of this section; and be used to inform continuous improvement of the project.

(2) Baseline data. (i) Why each proposed baseline is valid and reliable, including an assessment of the quality data used to establish the baseline; or (ii) if the applicant has determined that there are no established baseline data for a particular performance measure, an explanation of why there is no established baseline and of how and when, during the project period, the applicant would establish a valid baseline for the performance measure.

(3) Performance targets. Why each proposed performance target is ambitious yet achievable compared to the baseline for the performance measure and when, during the project period, the applicant would meet the performance target(s).

All grantees must submit an annual performance report with information that is responsive to these performance measures.

9. Program Authority and Applicable Regulations:

Program Authority: Title IV, part C of the ESEA (20 U.S.C. 7221-7221j), as amended.

Note: Projects will be awarded and must be operated in a manner consistent with the nondiscrimination requirements contained in Federal civil rights laws.

Applicable Regulations: (a) The Education Department General Administrative Regulations in 34 CFR parts 75, 76, 77, 79, 81, 82, 84, 97, 98, and 99. (b) The Office of Management and Budget (OMB) Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200 (Uniform Guidance), as adopted and amended as regulations of the Department in 2 CFR part 3474. (d) The 2019 NFP.

II. Supplemental Requirements

1. a. Cost Sharing or Matching: This program does not require cost sharing or matching.

b. Supplement-Not-Supplant: This program does not involve supplement-not-supplant funding requirements.

c. Indirect Cost Rate Information: This program uses an unrestricted indirect cost rate. For more information regarding indirect costs, or to obtain a negotiated indirect cost rate, please see https://www.ed.gov/about/ed-offices/ofo#Indirect-Cost-Division.

d. Administrative Cost Limitation: This program does not include any program-specific limitation on administrative expenses. All administrative expenses must be reasonable and necessary and conform to Cost Principles described in 2 CFR part 200 subpart E of the Uniform Guidance.

2. Subgrantees: A grantee under this program may not award subgrants to entities to directly carry out project activities described in its application.

3. Reasonable and Necessary Costs: The Secretary may elect to impose maximum limits on the amount of grant funds that may be awarded for a new charter school, or replicated, or expanded, high-quality charter school (34 CFR 75.101(a)(2) and 75.104(b)).

For this competition, the maximum limit of grant funds that may be awarded for a new charter school or a replicated or expanded high-quality charter school is $2,000,000.

In accordance with 2 CFR 200.404, applicants must ensure that all costs included in the proposed budget are reasonable and necessary in light of the goals and objectives of the proposed project. Any costs determined by the Secretary to be unreasonable or unnecessary will be removed from the final approved budget.

4. Audits: (i) A non-Federal entity that expends $1,000,000 or more during the non-Federal entity's fiscal year in Federal awards must have a single or program-specific audit conducted for that year in accordance with the provisions of 2 CFR part 200. (2 CFR 200.501(a))

(ii) A non-Federal entity that expends less than $1,000,000 during the non-Federal entity's fiscal year in Federal awards is exempt from Federal audit requirements for that year, except as noted in 2 CFR 200.503 (Relation to other audit requirements), but records must be available for review or audit by appropriate officials of the Federal agency, pass-through entity, and Government Accountability Office. (2 CFR 200.501(d)).

5. Funding Restrictions: Grantees must use the grant funds to open and prepare for the operation of a new charter school, to open and prepare for the operation of a replicated high-quality charter school, or to expand a high-quality charter school, as applicable. Grant funds must be used to carry out allowable activities, described in section 4303(h) of the ESEA, which include the following:

(a) Preparing teachers, school leaders, and specialized instructional support personnel, including through paying costs associated with—

(1) Providing professional development; and

(2) Hiring and compensating, during the eligible applicant's planning period specified in the application for funds, one or more of the following:

(i) Teachers.

(ii) School leaders.

(iii) Specialized instructional support personnel.

(b) Acquiring supplies, training, equipment (including technology), and educational materials (including developing and acquiring instructional materials).

(c) Carrying out necessary renovations to ensure that a new school building complies with applicable statutes and regulations, and minor facilities repairs (excluding construction).

(d) Providing one-time, startup costs associated with providing transportation to students to and from the charter school.

(e) Carrying out community engagement activities, which may include paying the cost of student and staff recruitment.

(f) Providing for other appropriate, non-sustained costs related to the opening of new charter schools, or the replication or expansion of high-quality charter schools, as applicable, when such costs cannot be met from other sources.

A grant awarded by the Secretary under this competition may be for a period of not more than 5 years, of which an eligible applicant may use not more than 18 months for planning and program design. (Section 4303(d)(1) of the ESEA). Applicants may propose to support only one charter school per grant application.

Other CSP Grants: A charter school that previously has received CSP funds for replication or expansion or for planning or initial implementation of a charter school under ALN 84.282A or 84.282M (under the ESEA) may not use funds under this grant for the same purpose (see 2 CFR 200.403). However, such charter school may be eligible to receive funds under this competition to expand the charter school beyond the existing grade levels or student count and beyond the grade levels or projected student count provided in the previous CSP award.

Likewise, a charter school that receives funds under this competition is ineligible to receive funds for the same purpose under section 4303(b)(1) or 4305(b) of the ESEA, including opening and preparing for the operation of a new charter school, opening and preparing for the operation of a replicated high-quality charter school, or expanding a high-quality charter school (i.e., ALN 84.282A or 84.282M) (2 CFR 200.403).

Award Basis: In determining whether to approve a grant award and the amount of such award, the Department will consider, among other things, the applicant's performance and use of funds under a previous or existing award under any Department program (34 CFR 75.217(d)(3)(ii)) and any other financial resources available to the applicant (34 CFR 75.233(b)). In assessing the applicant's performance and use of funds under a previous or existing award, the Secretary will consider, among other things, the outcomes the applicant has achieved and the results of any Departmental grant monitoring, including the applicant's progress in remedying any deficiencies identified in such monitoring.

We reference additional regulations outlining funding restrictions in the Applicable Regulations section of this notice.

III. Application and Submission Information

1. Application Submission Instructions: Applicants are required to follow the Common Instructions for Applicants to Department of Education Discretionary Grant Programs, published in the Federal Register on December 23, 2024 (89 FR 104528), and available at https://www.federalregister.gov/d/2024-30488, which contain requirements and information on how to submit an application.

2. Submission of Proprietary Information: Given the types of projects that may be proposed in applications for this competition, your application may include business information that you consider proprietary. In 34 CFR 5.11, we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600 (Predisclosure Notification Procedures for Confidential Commercial Information), please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

IV. Application Review Information

1. Review and Selection Process: We remind potential applicants that in reviewing applications in any discretionary grant competition, the Secretary may consider, under 34 CFR 75.217(d)(3), the past performance of the applicant in carrying out a previous award, such as the applicant's use of funds, completion of grant activities, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

2. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

3. Integrity and Performance System: If you are selected under this competition to receive an award that over the course of the project period may exceed the simplified acquisition threshold (currently $250,000), under 2 CFR 200.206(a)(2) we must make a judgment about your integrity, business ethics, and record of performance under Federal awards-that is, the risk posed by you as an applicant-before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

V. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works.

Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. See the standards in 2 CFR 170.105 to determine whether you are covered by 2 CFR part 170.

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.254, the Secretary may provide a grantee with additional funding for data collection analysis and reporting. In this case the Secretary establishes a data collection period.

5. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

6. Project Directors' Meeting: Applicants approved for funding under this competition must attend a meeting for project directors during each year of the project. The meeting may be held virtually or in person at a location to be determined in the continental United States. Applicants may include, if applicable, the cost of attending these meetings in their proposed budgets as allowable administrative costs.

7. Technical Assistance: Applicants approved for funding under this competition will be required to participate in all general and certain specified technical assistance offerings, to include but not limited to, other on-site gatherings sponsored by the Department and its contracted technical assistance providers and partners throughout the life of the grant.

VI. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, Braille, large print, audiotape, compact disc, or other accessible format.

Hayley B. Sanon,
Principal Deputy Assistant Secretary and Acting Assistant Secretary, Office of Elementary and Secondary Education.

[FR Doc. 2025-08660 Filed 5-14-25; 8:45 am]

BILLING CODE 4000-01-P